DEPARTMENT OF HOUSING AND URBAN DEVELOPMENT

[Docket No. FR-5876-N-02]

Changes in Certain Multifamily Mortgage Insurance Premiums

Correction

In notice document 2016-01511 beginning on page 4926 in the issue of Thursday, January 28, 2016, make the following correction:

1. On page 4926, in the third column, in the DATES section, “February 17, 2016.” should read “February 29, 2016.”

[FR Doc. C1-2016-01511 Filed 2-3-16; 8:45 am]

BILLING CODE 1505-01-D